DEPARTMENT OF HEALTH AND HUMAN SERVICES

Administration for Community Living

[OMB# 0985-0024]

Agency Information Collection Activities; Proposed Collection; Comment Request; National Survey of Older Americans Act Participants

AGENCY: Administration for Community Living, HHS.

ACTION: Notice.

SUMMARY: The Administration for Community Living (ACL) is announcing an opportunity for the public to comment on the proposed collection of information listed above. Under the Paperwork Reduction Act of 1995 (the PRA), Federal agencies are required to publish a notice in the Federal Register concerning each proposed collection of information, including each proposed extension of an existing collection of information, and to allow 60 days for public comment in response to the notice. This notice solicits comments on the information collection requirements relating to consumer assessment surveys that are used by ACL to measure program performance for programs funded under Title III of the Older Americans Act. This notice solicits comments on a proposed revision of a currently approved collection with the addition of a new rotating module to the National Survey of Older Americans Act Participants.

DATES: Comments on the collection of information must be submitted electronically by 11:59 p.m. (EST) or postmarked by January 19, 2021.

ADDRESSES: Submit electronic comments on the collection of information to: Susan.Jenkins@acl.hhs.gov. Submit written comments on the collection of information to Administration for Community Living, Washington, DC 20201, Attention: Susan Jenkins.

FOR FURTHER INFORMATION CONTACT: Susan Jenkins, Administration for Community Living, Washington, DC 20201, by email at Susan.Jenkins@acl.hhs.gov or by telephone at 202-795-7369.

SUPPLEMENTARY INFORMATION: Under the PRA (44 U.S.C. 3501-3520), Federal agencies must obtain approval from the Office of Management and Budget (OMB) for each collection of information they conduct or sponsor. “Collection of information” is defined under the PRA and includes agency requests or requirements that members of the public submit reports, keep records, or provide information to a third party. PRA section (44 U.S.C. 3506(c)(2)(A)) requires Federal agencies to provide a 60-day notice in the Federal Register concerning each proposed collection of information, including each proposed extension of an existing collection of information, before submitting the collection to OMB for approval. To comply with this requirement, ACL is publishing a notice of the proposed collection of information set forth in this document.

With respect to the following collection of information, ACL invites comments on our burden estimates or any other aspect of this collection of information, including:

(1) Whether the proposed collection of information is necessary for the proper performance of ACL's functions, including whether the information will have practical utility;

(2) the accuracy of ACL's estimate of the burden of the proposed collection of information, including the validity of the methodology and assumptions used to determine burden estimates;

(3) ways to enhance the quality, utility, and clarity of the information to be collected; and

(4) ways to minimize the burden of the collection of information on respondents, including through the use of automated collection techniques when appropriate, and other forms of information technology.

The National Survey of Older Americans Act (OAA) Participants information collection will include consumer assessment surveys for the Congregate and Home-delivered meal nutrition programs; Case Management, Homemaker, and Transportation Services; and the National Family Caregiver Support Program. This survey builds on earlier national pilot studies and surveys, as well as performance measurement tools developed by ACL grantees in the Performance Outcomes Measures Project (POMP). Changes identified as a result of these initiatives were incorporated into the last data collection package that was approved by OMB and are included in this proposed extension of a currently approved collection. This information will be used by ACL to track performance outcome measures; support budget requests; comply with the GPRA Modernization Act of 2010 (GPRMA) reporting requirements; provide national benchmark information; and inform program development and management initiatives.

In addition to the proposed extension of the existing collection of information, ACL is requesting approval for a module on emergency preparedness to be added to the currently approved NSOAAP data collection effort. Older adults often have unique needs during an emergency or crisis. For example, they may have mobility challenges and/or chronic health conditions, or they may not have any family or friends nearby to support them. Support services that an older adult relies on to live at home, such as help from family caregivers, in-home health care, and home delivered meals, may be unavailable due to the disaster. These conditions increase a person's vulnerability and may lead to nursing home care that may have been otherwise avoidable. In addition, older adults may be hearing or vision impaired or have a cognitive impairment such as dementia, which may make it difficult to access and respond to emergency directions.

It is the responsibility of long-term care providers, community leaders, and first-responders to train, engage, and support the health and safety needs of older adults during emergencies and disasters. However, ultimately each person has a responsibility to prepare for potential crisis and make a plan for how to respond. The purpose of adding questions on emergency preparedness to the NSOAAP is to measure the extent to which older adults have received training on, and are prepared for, an emergency event.

The results of this information collection will be used by ACL/AoA to:

• Provide refined national benchmarks for use by states and AAAs.

• Provide secondary data for analysis of various Title III program evaluations.

• Provide performance information for key demographic subgroups, geographical sub regions, and different types of AAAs which will enable ACL/AoA to identify variations in performance and examine the need for additional targeted technical assistance.

• Provide secondary data for analysis of emergency preparedness among older adults that will be shared with states and AAAs to help structure their emergency planning programs.

The data will be used by the Administrator of the Administration for Community Living/Assistant Secretary for Aging in testimony and presentations; it will be incorporated into the agency's Annual Report; and it will be used by program staff to identify areas that may need attention at the national level. Descriptions of previous National Surveys of OAA Participants can be found under the section on OAA Performance Information on ACL's website at: https://acl.gov/programs/performance-older-americans-act-programs. Copies of the survey instruments and data from previous National Surveys of OAA Participants can be found and queried using the Aging, Independence, and Disability (AGID) Program Data Portal at http://www.agid.acl.gov/.

The proposed data collection tools may be found on the ACL website for review at https://acl.gov/about-acl/public-input.

Estimated Program Burden

ACL estimates the burden associated with this collection of information as follows:

Respondent/data collection activity | Number of respondents | Responses per respondent | Hours per response | Annual burden hours | Cost per hour | Annual burden (cost)
Area Agency on Aging: Respondent selection process | 350 | 1 | 4.0 | 1,400 | $44 | $61,600
Service Recipients (i.e., Congregate and Home-delivered meal nutrition programs; Case Management, Homemaker, and Transportation Services) + Rotating Module | 4,400 | 1 | .75 | 3,300 | $25 | 82,500
National Family Caregiver Support Program Clients + Rotating Module | 2,200 | 1 | .75 | 1,650 | $25 | 41,250
Total | 6,950 | 1 | .914 (weighted mean) | 6,350 | Varies | 185,350

Dated: November 10, 2020.
Mary Lazare,
Principal Deputy Administrator.

[FR Doc. 2020-25276 Filed 11-16-20; 8:45 am]

BILLING CODE 4154-01-P